DEPARTMENT OF TRANSPORTATION

Federal Aviation Administration

14 CFR Part 39

[Docket No. FAA-2022-0682; Project Identifier MCAI-2021-01271-T; Amendment 39-22171; AD 2022-19-02]

RIN 2120-AA64

Airworthiness Directives; Airbus SAS Airplanes

AGENCY: Federal Aviation Administration (FAA), Department of Transportation (DOT).

ACTION: Final rule.

SUMMARY: The FAA is superseding Airworthiness Directive (AD) 2016-10-08, AD 2017-05-10, and AD 2019-01-05, which applied to certain Airbus SAS Model A330-200, -200 Freighter, and -300 series airplanes; and AD 2019-20-13, which applied to certain Airbus SAS Model A330-200, A330-200 Freighter, A330-300, A340-200, A340-300, A340-500, and A340-600 series airplanes. AD 2016-10-08 required determining the flight cycles accumulated on certain trimmable horizontal stabilizer actuators (THSAs), and replacing the THSA if necessary. AD 2017-05-10, AD 2019-01-05, and AD 2019-20-13 required revising the existing maintenance or inspection program, as applicable. This AD was prompted by a determination that new or more restrictive airworthiness limitations are necessary. This AD requires revising the existing maintenance or inspection program, as applicable, to incorporate additional new or more restrictive airworthiness limitations, as specified in a European Union Aviation Safety Agency (EASA) AD, which is incorporated by reference. The FAA is issuing this AD to address the unsafe condition on these products.

DATES: This AD is effective December 22, 2022.

The Director of the Federal Register approved the incorporation by reference of a certain publication listed in this AD as of December 22, 2022.

The Director of the Federal Register approved the incorporation by reference of a certain other publication listed in this AD as of June 24, 2016 (81 FR 31844, May 20, 2016).

The Director of the Federal Register approved the incorporation by reference of a certain other publication listed in this AD as of November 26, 2019 (84 FR 56378, October 22, 2019).

ADDRESSES: AD Docket: You may examine the AD docket at regulations.gov under Docket No. FAA-2022-0682; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA AD 2021-0250, contact EASA, Konrad-Adenauer-Ufer 3, 50668 Cologne, Germany; telephone +49 221 8999 000; email ADs@easa.europa.eu; internet easa.europa.eu. You may find this EASA AD on the EASA website at ad.easa.europa.eu.

• For Airbus SAS service information, contact Airbus SAS, Airworthiness Office—EAL, Rond-Point Emile Dewoitine No: 2, 31700 Blagnac Cedex, France; telephone +33 5 61 93 36 96; fax +33 5 61 93 45 80; email airworthiness.A330-A340@airbus.com; internet airbus.com.

• You may view this service information at the FAA, Airworthiness Products Section, Operational Safety Branch, 2200 South 216th St., Des Moines, WA. For information on the availability of this material at the FAA, call 206-231-3195. It is also available at regulations.gov under Docket No. FAA-2022-0682.

FOR FURTHER INFORMATION CONTACT: Vladimir Ulyanov, Aerospace Engineer, Large Aircraft Section, FAA, International Validation Branch, 2200 South 216th St., Des Moines, WA 98198; telephone 206-231-3229; email vladimir.ulyanov@faa.gov.

SUPPLEMENTARY INFORMATION:

Background

EASA, which is the Technical Agent for the Member States of the European Union, has issued EASA AD 2021-0250, dated November 17, 2021 (EASA AD 2021-0250) (also referred to as the MCAI), to correct an unsafe condition for all Airbus SAS Model A330-201, -202, -203, -223, and -243 airplanes; Model A330-223F and -243F airplanes; Model A330-301, -302, -303, -321, -322, -323, -341, -342, and -343 airplanes; Model A330-841 airplanes; and Model A330-941 airplanes.

The FAA issued a notice of proposed rulemaking (NPRM) to amend 14 CFR part 39 to supersede AD 2016-10-08, Amendment 39-18519 (81 FR 31844, May 20, 2016) (AD 2016-10-08); AD 2017-05-10, Amendment 39-18821 (82 FR 13379, March 13, 2017) (AD 2017-05-10); AD 2019-01-05, Amendment 39-19544 (84 FR 4310, February 15, 2019) (AD 2019-01-05); and AD 2019-20-13, Amendment 39-19766 (84 FR 56378, October 22, 2019) (AD 2019-20-13). AD 2016-10-08, AD 2017-05-10, and AD 2019-01-05, applied to certain Airbus SAS Model A330-200, -200 Freighter, and -300 series airplanes, and AD 2019-20-13 applied to certain Airbus SAS Model A330-200, A330-200 Freighter, A330-300, A340-200, A340-300, A340-500, and A340-600 series airplanes. The NPRM published in the Federal Register on June 23, 2022 (87 FR 37454). The NPRM was prompted by a determination that new or more restrictive airworthiness limitations are necessary. The NPRM proposed to require revising the existing maintenance or inspection program, as applicable, to incorporate additional new or more restrictive airworthiness limitations, as specified in EASA AD 2021-0250.

The FAA is issuing this AD to address the failure of system components, which could reduce the controllability of the airplane. See the MCAI for additional background information.

Discussion of Final Airworthiness Directive

Comments

The FAA received a comment from the Air Line Pilots Association, International (ALPA) who supported the NPRM without change.

Conclusion

The FAA reviewed the relevant data, considered the comment received, and determined that air safety requires adopting this AD as proposed. Except for minor editorial changes, this AD is adopted as proposed in the NPRM. None of the changes will increase the economic burden on any operator. Accordingly, the FAA is issuing this AD to address the unsafe condition on these products.

Related Service Information Under 1 CFR Part 51

EASA AD 2021-0250 specifies airworthiness limitations for system equipment maintenance requirements.

This AD also requires Airbus Service Bulletin A330-27-3199, dated July 15, 2014, which the Director of the Federal Register approved for incorporation by reference as of June 24, 2016 (81 FR 31844, May 20, 2016).

This AD also requires Airbus A330 Airworthiness Limitations Section (ALS) Part 4, System Equipment Maintenance Requirements (SEMR), Revision 07, dated October 15, 2018, which the Director of the Federal Register approved for incorporation by reference as of November 26, 2019 (84 FR 56378, October 22, 2019).

This material is reasonably available because the interested parties have access to it through their normal course of business or by the means identified in the ADDRESSES section.

Costs of Compliance

The FAA estimates that this AD affects 138 airplanes of U.S. registry. The FAA estimates the following costs to comply with this AD:

The FAA estimates the total cost per operator for the retained actions from AD 2016-10-08 to be $255 per product (3 work-hours × $85 per work-hour) for inspecting the THSA for a total cost for U.S. operators of $35,190. The retained on-condition cost for AD 2016-10-08 is $724,511 per product (23 work-hours × $85 per work-hour). The FAA estimates the total cost per operator for the retained actions from AD 2019-20-13 to be $7,650 (90 work-hours × $85 per work-hour).

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate.

The FAA estimates the total cost per operator for the new actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) AD 2016-10-08, Amendment 39-18519 (81 FR 31844, May 20, 2016); AD 2017-05-10, Amendment 39-18821 (82 FR 13379, March 13, 2017); AD 2019-01-05, Amendment 39-19544 (84 FR 4310, February 15, 2019); and AD 2019-20-13, Amendment 39-19766 (84 FR 56378, October 22, 2019); and

b. Adding the following new AD:

2022-19-02 Airbus SAS: Amendment 39-22171; Docket No. FAA-2022-0682; Project Identifier MCAI-2021-01271-T.

(a) Effective Date

This airworthiness directive (AD) is effective December 22, 2022.

(b) Affected ADs

(1) This AD replaces the ADs identified in paragraphs (b)(1)(i) through (iv) of this AD.

(i) AD 2016-10-08, Amendment 39-18519 (81 FR 31844, May 20, 2016) (AD 2016-10-08).

(ii) AD 2017-05-10, Amendment 39-18821 (82 FR 13379, March 13, 2017) (AD 2017-05-10).

(iii) AD 2019-01-05, Amendment 39-19544 (84 FR 4310, February 15, 2019) (AD 2019-01-05).

(iv) AD 2019-20-13, Amendment 39-19766 (84 FR 56378, October 22, 2019) (AD 2019-20-13).

(2) This AD affects the ADs identified in paragraphs (b)(2)(i) and (ii) of this AD.

(i) AD 2014-16-22, Amendment 39-17946 (79 FR 49442, August 21, 2014) (AD 2014-16-22).

(ii) AD 2017-25-13, Amendment 39-19127 (82 FR 59960, December 18, 2017) (AD 2017-25-13).

(c) Applicability

This AD applies to Airbus SAS airplanes specified in paragraphs (c)(1) through (5) of this AD, certificated in any category, with an original airworthiness certificate or original export certificate of airworthiness issued on or before July 1, 2021.

(1) Model A330-201, -202, -203, -223, and -243 airplanes.

(2) Model A330-223F and -243F airplanes.

(3) Model A330-301, -302, -303, -321, -322, -323, -341, -342, and -343 airplanes.

(4) Model A330-841 airplanes.

(5) Model A330-941 airplanes.

(d) Subject

Air Transport Association (ATA) of America Code 05, Time Limits/Maintenance Checks.

(e) Unsafe Condition

This AD was prompted by a determination that new or more restrictive airworthiness limitations are necessary. The FAA is issuing this AD to address the failure of system components, which could reduce the controllability of the airplane.

(f) Compliance

Comply with this AD within the compliance times specified, unless already done.

(g) Retained Inspection To Determine Trimmable Horizontal Stabilizer Actuator (THSA) Part Number and Accumulated Total Flight Cycles, With Removed References to Certain Models

This paragraph restates the requirements of paragraph (g) of AD 2016-10-08, with removed references to certain models. For Model A330-200 Freighter, A330-200, and A330-300 series airplanes: Within 90 days after June 24, 2016 (the effective date of AD 2016-10-08), inspect the THSA to determine if it has part number 47147-500, 47147-700, 47172-300, 47172-500, 47172-510, or 47172-520, and to determine the total number of flight cycles accumulated since the THSA's first installation on an airplane, or since the most recent no-back brake (NBB) replacement. A review of airplane delivery or maintenance records is acceptable in lieu of this inspection if the part number of the THSA can be conclusively determined from that review. Accomplishing the revision of the existing maintenance or inspection program required by paragraph (o) of this AD terminates the requirements of this paragraph.

(h) Retained THSA Replacement for Model A330-200 Freighter, A330-200, and A330-300 Series Airplanes, With Removed References to Certain Models and Service Information

This paragraph restates the requirements of paragraph (h) of AD 2016-10-08, with removed references to certain models and service information. For Model A330-200 Freighter, A330-200, and A330-300 series airplanes having a THSA with a part number specified in paragraph (g) of this AD: At the applicable time specified in paragraph (h)(1), (2), or (3) of this AD, replace each affected THSA with a serviceable THSA, in accordance with the Accomplishment Instructions of Airbus Service Bulletin A330-27-3199, dated July 15, 2014. Accomplishing the revision of the existing maintenance or inspection program required by paragraph (o) of this AD terminates the requirements of this paragraph.

(1) For a THSA that has accumulated or exceeded 20,000 total flight cycles since the THSA's first installation on an airplane, or since the most recent NBB replacement, whichever is later, as of June 24, 2016 (the effective date of AD 2016-10-08): Within 6 months after June 24, 2016.

(2) For a THSA that has accumulated or exceeded 16,000 total flight cycles, but less than 20,000 total flight cycles since the THSA's first installation on an airplane, or since the most recent NBB replacement, whichever is later, as of June 24, 2016 (the effective date of AD 2016-10-08): Within 12 months after June 24, 2016, but without exceeding 20,000 total flight cycles.

(3) For a THSA that has accumulated less than 16,000 total flight cycles since first installation on an airplane, or since the most recent NBB replacement, whichever is later, as of June 24, 2016 (the effective date of AD 2016-10-08): At the applicable time specified in paragraph (i) of this AD.

Note 1 to paragraph (h): This note applies to paragraphs (h) and (i) of this AD. The THSA life limits specified in Part 4-Aging System Maintenance of the Airbus A330 Airworthiness Limitations Sections are still relevant, as applicable to airplane model and THSA part number.

(i) Retained Replacement Times for Model A330-200 Freighter, A330-200, and A330-300 Series Airplanes With THSAs Having Less Than 16,000 Total Flight Cycles as of the Effective Date of This AD, With Removed References to Certain Models and Service Information

This paragraph restates the requirements of paragraph (i) of AD 2016-10-08, with removed references to certain models and service information. The requirements of this paragraph apply to Model A330-200 Freighter, A330-200, and A330-300 series airplanes having a THSA with a part number specified in paragraph (g) of this AD that has accumulated less than 16,000 total flight cycles since first installation on an airplane, or since the most recent NBB replacement, whichever is later, as of June 24, 2016 (the effective date of AD 2016-10-08). Not later than the date specified in paragraphs (i)(1), (2), or (3) of this AD, as applicable: For any THSA having reached or exceeded on that date the corresponding number of total flight cycles as specified in paragraphs (i)(1), (2), or (3) of this AD, as applicable, replace the THSA with a serviceable unit, in accordance with the Accomplishment Instructions of Airbus Service Bulletin A330-27-3199, dated July 15, 2014. Accomplishing the revision of the existing maintenance or inspection program required by paragraph (o) of this AD terminates the requirements of this paragraph.

(1) As of 12 months after June 24, 2016 (the effective date of AD 2016-10-08): The THSA flight-cycle limit (since first installation on an airplane, or since last NBB replacement, whichever occurs later) is 16,000 total flight cycles.

(2) As of July 31, 2017: The THSA flight cycle limit (since first installation on an airplane, or since last NBB replacement, whichever occurs later) is 14,000 total flight cycles.

(3) As of July 31, 2018: The THSA flight cycle limit (since first installation on an airplane, or since last NBB replacement, whichever occurs later) is 12,000 total flight cycles.

(j) Retained THSA Replacement Intervals for Model A330-200 Freighter, A330-200, and A330-300 Series Airplanes, With Removed Service Information

This paragraph restates the requirements of paragraph (k) of AD 2016-10-08, with removed service information. For Model A330-200 Freighter, A330-200, and A330-300 series airplanes with any part installed, as required by paragraph (h) or (i) of this AD, having a part number identified in paragraph (g) of this AD: From the dates specified in paragraph (i) of this AD, as applicable, and prior to exceeding the accumulated number of total flight cycles corresponding to each time, replace each affected THSA with a serviceable part, in accordance with the Accomplishment Instructions of Airbus Service Bulletin A330-27-3199, dated July 15, 2014. Accomplishing the revision of the existing maintenance or inspection program required by paragraph (o) of this AD terminates the requirements of this paragraph.

(k) Retained Definition of Serviceable THSA, With Updated Paragraph References

This paragraph restates the requirements of paragraph (l) of AD 2016-10-08, with updated paragraph references. For the purposes of paragraphs (g) through (j) and (l) of this AD, a serviceable THSA is a THSA:

(1) Having a part number identified in paragraph (g) of this AD that has not exceeded any of the total accumulated flight cycles identified in paragraphs (i)(1) through (3) of this AD; or

(2) Having a part number that is not identified in paragraph (g) of this AD.

(l) Retained Parts Installation Limitation, With Updated Paragraph References

This paragraph restates the requirements of paragraph (m) of AD 2016-10-08, with updated paragraph references. For Model A330-200 Freighter, A330-200, and A330-300 series airplanes: From each date specified in paragraphs (i)(1) through (3) of this AD, a THSA having a part number identified in paragraph (g) of this AD may be installed on any airplane, provided the THSA has not exceeded the corresponding number of accumulated total flight cycles. Accomplishing the revision of the existing maintenance or inspection program required by paragraph (o) of this AD terminates the requirements of this paragraph.

(m) Retained Revision of the Existing Maintenance or Inspection Program, With No Changes

This paragraph restates the requirements of paragraph (g) of AD 2019-20-13, with no changes. For Model A330-200 Freighter, A330-200, and A330-300 series airplanes with an original airworthiness certificate or original export certificate of airworthiness issued on or before October 15, 2018: Within 90 days after November 26, 2019 (the effective date of AD 2019-20-13), revise the existing maintenance or inspection program, as applicable, to incorporate the information specified in Airbus A330 Airworthiness Limitations Section (ALS) Part 4, System Equipment Maintenance Requirements (SEMR), Revision 07, dated October 15, 2018. The component life limits and the initial compliance time for doing the tasks are at the times specified in Airbus A330 Airworthiness Limitations Section (ALS) Part 4, System Equipment Maintenance Requirements (SEMR), Revision 07, dated October 15, 2018, or within 90 days after November 26, 2019, whichever occurs later. Accomplishing the revision of the existing maintenance or inspection program required by paragraph (o) of this AD terminates the requirements of this paragraph.

(n) Retained Restrictions on Alternative Actions and Intervals, With a New Exception

This paragraph restates the requirements of paragraph (h) of AD 2019-20-13, with a new exception. Except as required by paragraph (o) of this AD, after the existing maintenance or inspection program has been revised as required by paragraph (m) of this AD, no alternative actions (e.g., inspections) or intervals may be used unless the actions and intervals are approved as an alternative method of compliance (AMOC) in accordance with the procedures specified in paragraph (s)(1) of this AD.

(o) New Revision of the Existing Maintenance or Inspection Program

Except as specified in paragraph (p) of this AD: Comply with all required actions and compliance times specified in, and in accordance with, EASA AD 2021-0250, dated November 17, 2021 (EASA AD 2021-0250). Accomplishing the revision of the existing maintenance or inspection program required by this paragraph terminates the requirements of paragraphs (g) through (j), (l), and (m) of this AD.

(p) Exceptions to EASA AD 2021-0250

(1) Where EASA AD 2021-0250 refers to its effective date, this AD requires using the effective date of this AD.

(2) The requirements specified in paragraphs (1) and (2) of EASA AD 2021-0250 do not apply to this AD.

(3) Paragraph (3) of EASA AD 2021-0250 specifies to “revise the AMP” within 12 months after its effective date, but this AD requires revising the existing maintenance or inspection program, as applicable, within 90 days after the effective date of this AD.

(4) The initial compliance time for doing the tasks specified in paragraph (3) of EASA 2021-0250 is at the applicable “limitations and associated thresholds” as incorporated by the requirements of paragraph (3) of EASA AD 2021-0250, or within 90 days after the effective date of this AD, whichever occurs later.

(5) The provisions specified in paragraphs (4) and (5) of EASA AD 2021-0250 do not apply to this AD.

(6) The “Remarks” section of EASA AD 2021-0250 does not apply to this AD.

(q) New Provisions for Alternative Actions and Intervals

After the existing maintenance or inspection program has been revised as required by paragraph (o) of this AD, no alternative actions (e.g., inspections) and intervals are allowed unless they are approved as specified in the provisions of the “Ref. Publications” section of EASA AD 2021-0250.

(r) Terminating Action for AD 2014-16-22 and AD 2017-25-13

(1) Accomplishing the action required by task number 213100-00001-1-E of Airbus A330 Airworthiness Limitations Section (ALS) Part 4, System Equipment Maintenance Requirements (SEMR), Revision 07, dated October 15, 2018, or using “The ALS” as specified in EASA AD 2021-0250, within the compliance time specified for that task terminates all requirements of AD 2014-16-22 for Airbus SAS Model A330-200, -200 Freighter, and -300 series airplanes only.

(2) Accomplishing the action required by task number 274400-000041-E of Airbus A330 Airworthiness Limitations Section (ALS) Part 4, System Equipment Maintenance Requirements (SEMR), Revision 07, dated October 15, 2018, or using “The ALS” as specified in EASA AD 2021-0250, within the compliance time specified for that task terminates all requirements of AD 2017-25-13 for Airbus SAS Model A330-200, -200 Freighter, and -300 series airplanes only.

(s) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (t) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (s)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(t) Additional Information

For more information about this AD, contact Vladimir Ulyanov, Aerospace Engineer, Large Aircraft Section, FAA, International Validation Branch, 2200 South 216th St., Des Moines, WA 98198; telephone 206-231-3229; email vladimir.ulyanov@faa.gov.

(u) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on December 22, 2022.

(i) European Union Aviation Safety Agency (EASA) AD 2021-0250, dated November 17, 2021.

(ii) [Reserved]

(4) The following service information was approved for IBR on June 24, 2016 (81 FR 31844, May 20, 2016).

(i) Airbus Service Bulletin A330-27-3199, dated July 15, 2014.

(ii) [Reserved]

(5) The following service information was approved for IBR on November 26, 2019 (84 FR 56378, October 22, 2019).

(i) Airbus A330 Airworthiness Limitations Section (ALS) Part 4, System Equipment Maintenance Requirements (SEMR), Revision 07, dated October 15, 2018.

(ii) [Reserved]

(6) For EASA AD 2021-0250, contact EASA, Konrad-Adenauer-Ufer 3, 50668 Cologne, Germany; telephone +49 221 8999 000; email ADs@easa.europa.eu; internet easa.europa.eu. You may find this EASA AD on the EASA website at ad.easa.europa.eu.

(7) For Airbus SAS service information, contact Airbus SAS, Airworthiness Office—EIAS, Rond-Point Emile Dewoitine No: 2, 31700 Blagnac Cedex, France; telephone +33 5 61 93 36 96; fax +33 5 61 93 44 51; email account.airworth-eas@airbus.com; internet airbus.com.

(8) You may view this material at the FAA, Airworthiness Products Section, Operational Safety Branch, 2200 South 216th St., Des Moines, WA. For information on the availability of this material at the FAA, call 206-231-3195.

(9) You may view this material that is incorporated by reference at the National Archives and Records Administration (NARA). For information on the availability of this material at NARA, email fr.inspection@nara.gov, or go to: www.archives.gov/federal-register/cfr/ibr-locations.html.

Issued on September 2, 2022.
Christina Underwood,
Acting Director, Compliance & Airworthiness Division, Aircraft Certification Service.

Editorial Note: This document was received for publication by the Office of the Federal Register on November 10, 2022.

[FR Doc. 2022-24991 Filed 11-16-22; 8:45 am]

BILLING CODE 4910-13-P